DEPARTMENT OF COMMERCE

International Trade Administration

(A-580-816)

Corrosion-Resistant Carbon Steel Flat Products from Korea: Notice of Correction of Extension of Time Limits for the Final Results of Antidumping Duty New Shipper Review

AGENCY: Import Administration, International Trade Administration, Department of Commerce.

EFFECTIVE DATE: June 2, 2008.

FOR FURTHER INFORMATION CONTACT: Victoria Cho or George McMahon, AD/CVD Operations, Office 3, Import Administration, International Trade Administration, U.S. Department of Commerce, 14th Street and Constitution Avenue, NW., Washington, DC 20230; telephone: (202) 482-5075 and (202) 482-1167, respectively.

SUPPLEMENTARY INFORMATION:

CORRECTION:

On April 21, 2008, the Department published the extension of time limits for the final results of the antidumping duty new shipper review of corrosion-resistant carbon steel flat products from Korea. See Corrosion-Resistant Carbon Steel Flat Products from Korea: Extension of Time Limits for the Final Results of Antidumping Duty New Shipper Review, 73 FR 21316 (April 21, 2008) (Extension Notice). Subsequent to the signature of the Extension Notice, we identified two inadvertent errors in the above-referenced notice. First, in the Extension Notice, the Department inadvertently included a caption “Extension of Time Limit of Preliminary Results,” however, this caption should have stated “Extension of Time Limit of Final Results.” Second, the Department mistakenly indicated that “we are extending the time period for issuing the final results of review to 150 days after the publication of the preliminary results.” However, in accordance with section 751(a)(2)(B)(iv) of the Tariff Act of 1930, as amended (the Act)¹ and 19 CFR 351.214(i)(2), the Department should have stated “we are extending the time period for issuing the final results of review to 150 days after the date on which the preliminary results were issued.” As a result of this correction, the final results are now due no later than June 13, 2008.

¹ Section 751(a)(2)(B)(iv) of the Act requires the Department to issue the final results of a new shipper review of an antidumping order within 90 days after the date the preliminary results are issued. However, if the review is extraordinarily complicated, the Act allows the Department to extend the time limit for the final results to a maximum of 150 days.

This notice serves to correct both the caption and the due date for the final results of this new shipper review, as listed in the Extension Notice. This notice is issued and published in accordance with sections 751(a)(2)(B)(iv) and 777(i)(1) of the Act, and 19 CFR 351.214(i)(2).

Dated: May 27, 2008.
Stephen J. Claeys,
Deputy Assistant Secretary for Import Administration.

[FR Doc. E8-12259 Filed 5-30-08; 8:45 am]

BILLING CODE 3510-DS-S